DEPARTMENT OF AGRICULTURE

Submission for OMB Review; Comment Request

January 20, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: National Survey on Recreation and the Environment 2011.

OMB Control Number: 0596-0127.

Summary of Collection: Authorizing legislation for this collection is the Forest and Rangeland Renewable Resources Planning Act, Public Law 93-378-88 Stat. 475. This collection is a multi-agency partnership. Participating Federal Agencies include the Forest Service (FS), Economic Research Service (ERS) (U.S. Department of Agriculture), National Oceanic and Atmospheric Administration (U.S. Department of Commerce) Bureau of Land Management (Department of the Interior), U.S. Coast Guard and the Environmental Protection Agency.

These Federal agencies are responsible for oversight of public lands, waterways or marine sanctuaries. Each manages for or otherwise influences recreation opportunities. The collection and analysis of public demand data is vital to defining effective policies and to implementation of programs affecting the management and use of water, forest, and wildlife resources. The National Survey on Recreation and the Environment (NSRE) 2011 will be the latest in a series of surveys begun in 1960 as the National Recreation Survey. This survey is the primary, consistent source of recreation participation data concerning the U.S. population.

Need and Use of the Information: FS will collect information nationally from the public to assess trends in recreation participation over the years since the survey was last conducted and to estimate demand for outdoor recreation among the U.S. population. In addition, the survey will collect information from the public on people's attitudes and values toward natural resources and their management. FS will use the information as well as other federal agencies to develop long-range strategic plans, adjust programs and activities to meet customer needs and expectations, and better manage federally owned lands.

Description of Respondents: Individuals or households.

Number of Respondents: 56,830.

Frequency of Responses: Reporting: Other (one time)

Total Burden Hours: 2,757.

Charlene Parker,
Departmental Information Collection Clearance Officer.

[FR Doc. 2011-1543 Filed 1-25-11; 8:45 am]

BILLING CODE 3410-11-P